DEPARTMENT OF LABOR

Agency Information Collection Activities; Submission for OMB Review; Comment Request; Evaluation of Getting To Work: A Training Curriculum for HIV/AIDS Service Providers and Housing Providers

AGENCY: Office of Disability Employment Policy, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addresses section of this notice.

DATES: Written comments must be submitted to the office listed in the addresses section below on or before November 3, 2014.

ADDRESSES: You may submit comments by either one of the following methods: Email: DeDona.Meredith@dol.gov; Mail or Courier: Office of Disability Employment Policy, Room S-1303, 200 Constitution Avenue NW., Washington, DC 20210, Attention: Meredith DeDona, Policy Advisor. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Meredith DeDona by telephone at 202-693-7880 (this is not a toll-free number) or by email at DeDona.Meredith@dol.gov.

SUPPLEMENTARY INFORMATION: I. Background: Due to advances in treatment, more and more persons living with HIV/AIDS (PLWHA) can live long and healthy lives. Many PLWHA also have the desire, capability, and stamina to contribute to the workforce. Employment provides economic, social, and psychological benefits. Research suggests that for many PLWHA, employment, like stable housing, can be positively associated with improved physical and mental health, and it may also serve as a preventative measure to the spread of HIV/AIDS.

HIV/AIDS service providers are recognizing that employment is a key component of serving the whole person. Some are integrating employment assistance, in a variety of forms, into their service menus. To effectively provide such services, it is important that providers understand HIV/AIDS in the context of employment. There are different approaches to helping clients who are ready to work identify and achieve their related goals. The goal of Getting to Work: A Training Curriculum for HIV/AIDS Service Providers and Housing Providers (Getting to Work or GTW) is to increase the capacity of service providers to enhance opportunities for employment and retention of PLWHA and/or those at risk of living with HIV/AIDS.

In the fall of 2013, ODEP contracted with the IMPAQ team to conduct this study to address the following questions:

1. What knowledge did the training participants (individuals) acquire about HIV/AIDS and employment?

2. What new attitudes, behavior, or actions related to employing PLWHA did training participants (individuals) develop?

3. What longer-term individual and organizational changes occurred related to HIV/AIDS and employment as a result of participating in the training?

ODEP requests clearance to conduct, through the IMPAQ team, two principal research activities:

Web-based survey of all GTW trainees (approximately 1,000 individuals who are staff or managers of housing providers)

8 focus groups of housing provider staff and management

This information collection is being conducted by the Office of Disability Employment Policy (ODEP), which was authorized by Congress in the Department of Labor's FY 2001 appropriation.

The survey of trainees will take place over a period of approximately four months. The survey will be administered to all individuals who complete the GTW training. The survey will be administered via the web and recipients will be notified about the survey by mail, with email reminders. Each survey will take about 30 minutes, on average, to complete, and an 80% response rate is expected.

All on-site data collection (focus groups) will take place over a period of approximately four months. Focus groups will be conducted at 8 housing provider facilities. Each focus group will involve approximately 9 customers in each group, and reasonable accommodations for disabilities will be provided for all attending participants, as needed. Focus groups will last approximately 90 minutes and all participants will receive $30 for their attendance.

II. Desired Focus of Comments: Currently, the Department of Labor is soliciting comments concerning the above data collection for the Evaluation of GTW. Comments are requested to:

Evaluate whether the proposed collection of information is necessary for the proper performance of the functions of the agency, including whether the information will have practical utility;

evaluate the accuracy of the agency's estimate of the burden of the proposed collection of information, including the validity of the methodology and assumptions used;

enhance the quality, utility, and clarity of the information to be collected; and

minimize the burden of the information collection on those who are to respond, including the use of appropriate automated, electronic, mechanical, or other technological collection techniques or other forms of information technology, e.g., permitting electronic submissions of responses.

III. Current Actions: At this time, the Department of Labor is requesting comments on its proposal to conduct (1) one survey of all GTW trainees, (2) focus groups with trainees at 8 housing provider facilities, for the Evaluation of GTW.

Type of review: New information collection request.

OMB Control Number: 1230-0NEW.

Web Survey:

Affected Public: Private Sector (staff and management at housing provider facilities).

Total Respondents: 1,000.

Frequency: Once.

Total Responses: 1,000.

Average Time per Response: 30 minutes.

Estimated Total Burden Hours: 500 hours.

Average Annual Other Burden Cost: $0.

Focus Groups:

Affected Public: Staff and management at housing provider facilities.

Total Respondents: 72.

Frequency: Once.

Total Responses: 72

Average Time per Response: 90 minutes.

Estimated Total Burden Hours: 108 hours.

Average Annual Other Burden Cost: $2,160.

Comments submitted in response to this request will be summarized and/or included in the request for Office of Management and Budget approval; they will also become a matter of public record.

Signed at Washington, DC, this 25th day of August 2014.
Kathleen Martinez,
Assistant Secretary for Disability Employment Policy, U.S. Department of Labor.

[FR Doc. 2014-20710 Filed 8-29-14; 8:45 am]

BILLING CODE 4510-27-P